DEPARTMENT OF HOMELAND SECURITY

Coast Guard

33 CFR Parts 1, 3, 8, 13, 19, 23, 25, 26, 27, 51, 67, 81, 84, 89, 96, 101, 104, 105, 110, 114, 116, 118, 120, 126, 127, 128, 135, 140, 141, 144, 148, 149, 150, 151, 153, 154, 155, 156, 157, 158, 159, 160, 164, 165, 167, 169, 174, 179, 181, and 183

[Docket No. USCG-2010-0351]

RIN 1625-ZA25

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable waters regulations. This rule will have no substantive effect on the regulated public. These changes are provided to coincide with the annual recodification of Title 33 on July 1.

DATES: This final rule is effective June 25, 2010.

ADDRESSES: Comments and material received from the public, as well as documents mentioned in this preamble as being available in the docket, are part of docket USCG-2010-0351 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0351 in the “Keyword” box, and then clicking “Search.”

FOR FURTHER INFORMATION CONTACT: If you have questions on this rule, call or e-mail Diane LaCumsky, Coast Guard; telephone 202-372-1025, e-mail Diane.M.LaCumsky@uscg.mil. If you have questions on viewing the docket, call Renee V. Wright, Program Manager, Docket Operations, telephone 202-366-9826.

SUPPLEMENTARY INFORMATION:

Table of Contents for Preamble

I. Regulatory History

II. Background

III. Discussion of Rule

IV. Regulatory Analyses

A. Regulatory Planning and Review

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this rule. Under 5 U.S.C. 553(b)(3)(A), the Coast Guard finds this rule is exempt from notice and comment rulemaking requirements because these changes involve rules of agency organization, procedure, or practice. In addition, the Coast Guard finds notice and comment procedure are unnecessary under 5 U.S.C. 553 (b)(3)(B) as this rule consists only of corrections and editorial, organizational, and conforming amendments and these changes will have no substantive effect on the public. This rulemaking also implements the Federal Civil Penalties Inflation Adjustment Act of 1990, as amended by the Debt Collection Improvement Act of 1996, by revising the Penalty Adjustment Table published in 33 CFR 27.3. This revision reflects statutorily prescribed adjustments of civil monetary penalties (CMP) for 2010. These statutes do not allow for discretion in implementation, rendering prior notice and comment unnecessary and contrary to the public interest.

Under 5 U.S.C. 553(d)(3), the Coast Guard finds that, for the same reasons, good cause exists for making this rule effective upon publication in the Federal Register.

II. Background

Each year the printed edition of Title 33 of the Code of Federal Regulations is recodified on July 1. This rule, which becomes effective June 25, 2010, makes technical and editorial corrections throughout Title 33 in time to be reflected in the recodification. This rule does not create any substantive requirements.

III. Discussion of Rule

This rule amends 33 CFR Part 1 by adding a new paragraph to clarify the Coast Guard's District Commanders' authority to redelegate signature of temporary deviations for bridge operating schedules. This rule clarifies existing practice which allows the District Commander to give the District Bridge Chief the authority to sign temporary deviations.

This rule revises 33 CFR Part 3 to designate Sector Honolulu Marine Inspection Zone and Captain of the Port Zone boundaries to accurately reflect current agency practice. We also add a new section to 33 CFR Part 3, to reflect internal agency organization providing for Officer in Charge, Marine Inspection (OCMI) authority in the Far East Maritime Inspection Zone. Additionally, we are adding a new paragraph to Part 3 to establish agency procedure and practice in execution of Search and Rescue in the Atlantic Area Search and Rescue Regions (SRR).

In this rule, the Coast Guard is publishing the 2010 Civil Monetary Penalty Inflation Adjustments. These adjustments, in 33 CFR Part 27, are made in accordance with the Federal Civil Penalties Inflation Adjustment Act of 1990, as amended by the Debt Collection Improvement Act of 1996, and implement the provisions of these statutes. These statutes require the Coast Guard to periodically adjust the civil monetary penalties for inflation by a method that is specifically prescribed within these statutes and which allows no discretion. The statutory method specifies the inflation measure to be used, the method for the calculation of the inflation adjustment, and the method for the numerical rounding of the results.

The publication in this final rule of the adjustments for 2010 establishes agency procedure for publishing the annual prescribed adjustment of civil penalties as a part of the Coast Guard's annual technical amendment to 33 CFR, as opposed to publishing separate rulemakings for the annual adjustments.

The last inflation adjustments were made in 2009. 74 FR 68150, December 23, 2009. The 2010 adjustments are based on the change in the Consumer Price Index for All Urban Consumers (CPI-U) from June 2008 to June 2009. The recorded change in CPI-U during that period was −1.43 percent. Because of the small change in CPI-U and the required rules for rounding, there was no change to any of the maximum penalty amounts from the previous adjustment and the 2010 amounts are therefore identical to the 2009 amounts.

This rule revises 33 CFR Part 155 to correct a typographical error found in 33 CFR 155.4030(g), which erroneously states the pumping rate factor as 0.16 gpm/ft2 instead of 0.016 gpm/ft2. In the preamble to the salvage and marine firefighting final rule, the Coast Guard expressly disagreed with the suggestion that the application rates for foam be made consistent with National Fire Protection Association (NFPA) 11 and 11A which require a minimum application rate of 0.16 gallons per minute per square foot (gpm/ft2) for a fuel spill involving flammable liquids in depth. 73 FR 80618, December 31, 2008. Instead, as reflected in the preamble of that rule, § 155.4030(g) was intended to meet the quantity of foam requirements in the existing 46 CFR 34.20-5, and Coast Guard NVIC 06-72 “Guide to Fixed Fire-Fighting Equipment Aboard Merchant Vessels.” These standards require a quantity of foam large enough to supply foam to one tenth of the surface over the cargo tanks, or the horizontal sectional area of the single largest tank. However, this minimum application rate was not reflected correctly in § 155.4030(g) due to a typographical error in the final rule. Thus, the pumping rate factor is corrected from 0.16 gpm/ft2 to 0.016 gpm/ft2. As discussed in the preamble to the salvage and marine firefighting final rule, the Coast Guard clearly intended to use the extinguishing agent application rate of 0.016 gpm/ft2 to calculate the amount necessary to address a contained fire involving 10 percent of the deck area of the vessel for 20 minutes. If this typographical error was not corrected and the application rate remained at 0.16 gpm/ft2, industry would be required to use 10 times the amount of foam than was considered in the final rule, resulting in increased cost and burden to industry.

This rule also revises 33 CFR Part 155 to correct an omission in the wording of 33 CFR 155.4035(b)(1). This technical amendment changes the salvage and marine firefighting final rule to align with the Coast Guard's intent that either the NFPA pre-fire plan or an alternative fire plan are acceptable for meeting the requirement for a marine firefighting pre-fire plan. In the preamble to the salvage and marine firefighting final rule, the Coast Guard said, “We added wording to allow SOLAS vessels to use their SOLAS fire plans in lieu of a fire plan developed under NFPA 1405 to § 155.4035(b)(1).” 73 FR 80624, December 31, 2008. However, this was inadvertently not added to § 155.4035(b)(1) in the final rule. We are correcting this omission by revising § 155.4035(b)(1) to reflect modification to this section as it was originally intended and stated in the preamble to the final rule. Additionally, although the preamble used the term “SOLAS fire plans,” there is no such document under the International Convention for the Safety of Life at Sea, 1974, as amended, (SOLAS). The revision to § 155.4035(b)(1) uses the correct reference: “SOLAS Chapter II-2, Regulation 15.”

This rule revises 33 CFR Part 158 to implement non-discretionary provisions in the Act to Prevent Pollution from Ships (APPS) (33 U.S.C. 1901, et al.). APPS mandates pollution reception facilities' certificates issued under 33 U.S.C. 1905(c) are valid for a 5-year period or until certain conditions are met. We are revising 33 CFR Part 158 to incorporate this change to APPS as prescribed by the Coast Guard Authorization Act of 1996 (Pub. L. 104-324).

This rule removes an unnecessary note explaining LORAN-C functions in 33 CFR Part 167. The note provides no substantive guidance or requirement and is no longer applicable to the description of traffic separation schemes and precautionary areas in Sector New York.

This rule corrects latitude/longitude coordinates of certain Coast Guard Sector Marine Inspection Zones, Captain of the Port Zones, and other areas in 33 CFR Parts 110 and 167.

This rule updates various addresses for Coast Guard offices throughout Title 33 of the Code of Federal Regulations in order to conform to new mailing addresses and mailing address formats that came into use June 15, 2009. This rule also updates internal Coast Guard office designators, as well as certain personnel titles throughout Title 33. Changes in personnel titles included in this rule are only technical revisions reflecting changes in agency procedure and organization, and do not indicate new authorities.

Finally, this rule corrects non-substantive, typographical errors throughout Title 33.

IV. Regulatory Analyses

We developed this rule after considering numerous statutes and executive orders related to rulemaking. Below we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order. Because this rule involves non-substantive changes and internal agency practices and procedures, it will not impose any additional costs on the public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

We estimate this rule will not impose any additional costs and should have little or no impact on small entities because the provisions of this rule are technical and non-substantive, and will have no substantive effect on the public and will impose no additional costs. Therefore, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Taking of Private Property

This rule will not cause a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and does not create an environmental risk to health or risk to safety that may disproportionately affect children.

I. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

L. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraph (34) (a) of the Instruction. This rule involves regulations which are editorial and/or procedural, such as those updating addresses or establishing application procedures. An environmental analysis checklist and a categorical exclusion determination are available in the docket where indicated under ADDRESSES.

List of Subjects

33 CFR Part 1

Administrative practice and procedure, Authority delegations (Government agencies), Freedom of information, Penalties.

33 CFR Part 3

Organization and functions (Government agencies).

33 CFR Part 8

Armed forces reserves.

33 CFR Part 13

Decorations, medals, awards.

33 CFR Part 19

Navigation (water), Vessels.

33 CFR Part 23

Aircraft, Signs and symbols, Vessels.

33 CFR Part 25

Authority delegations (Government agencies), Claims.

33 CFR Part 26

Communications equipment, Marine safety, Radio, Telephone, Vessels.

33 CFR Part 27

Administrative practice and procedure, Penalties.

33 CFR Part 51

Administrative practice and procedure, Military personnel.

33 CFR Part 67

Continental shelf, Navigation (water), Reporting and recordkeeping requirements.

33 CFR Part 81

Navigation (water), Reporting and recordkeeping requirements, Treaties.

33 CFR Part 84

Navigation (water), Waterways.

33 CFR Part 89

Navigation (water), Reporting and recordkeeping requirements, Waterways.

33 CFR Part 96

Administrative practice and procedure, Marine safety, Reporting and recordkeeping requirements, Vessels.

33 CFR Part 101

Harbors, Maritime security, Reporting and recordkeeping requirements, Security measures, Vessels, Waterways.

33 CFR Part 104

Maritime security, Reporting and recordkeeping requirements, Security measures, Vessels.

33 CFR Part 105

Maritime security, Reporting and recordkeeping requirements, Security measures.

33 CFR Part 110

Anchorage grounds.

33 CFR Parts 114, 116, and 118

Bridges.

33 CFR Part 120

Passenger vessels, Reporting and recordkeeping requirements, Security measures, Terrorism.

33 CFR Part 126

Explosives, Harbors, Hazardous substances, Reporting and recordkeeping requirements.

33 CFR Part 127

Fire prevention, Harbors, Hazardous substances, Natural gas, Reporting and recordkeeping requirements, Security measures.

33 CFR Part 128

Harbors, Reporting and recordkeeping requirements, Security measures, Terrorism.

33 CFR Part 135

Administrative practice and procedure, Continental shelf, Insurance, Oil pollution, Reporting and recordkeeping requirements.

33 CFR Part 140

Continental shelf, Investigations, Marine safety, Occupational safety and health, Penalties, Reporting and recordkeeping requirements.

33 CFR Part 141

Citizenship and naturalization, Continental shelf, Employment, Reporting and recordkeeping requirements.

33 CFR Part 144

Continental shelf, Marine safety, Occupational safety and health.

33 CFR Part 148

Administrative practice and procedure, Environmental protection, Harbors, Petroleum.

33 CFR Part 149

Fire prevention, Harbors, Marine safety, Navigation (water), Occupational safety and health, Oil pollution.

33 CFR Part 150

Harbors, Marine safety, Navigation (water), Occupational safety and health, Oil pollution, Reporting and recordkeeping requirements.

33 CFR Part 151

Administrative practice and procedure, Oil pollution, Penalties, Reporting and recordkeeping requirements, Water pollution control.

33 CFR Parts 153

Oil pollution, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 156

Hazardous substances, Oil pollution, Reporting and recordkeeping requirements, Water pollution control.

33 CFR Part 157

Cargo vessels, Oil pollution, Reporting and recordkeeping requirements.

33 CFR Part 158

Administrative practice and procedure, Harbors, Oil pollution, Penalties, Reporting and recordkeeping requirements, Water pollution control.

33 CFR Part 159

Alaska, Reporting and recordkeeping requirements, Sewage disposal, Vessels.

33 CFR Part 160

Administrative practice and procedure, Harbors, Hazardous materials transportation, Marine safety, Navigation (water), Reporting and recordkeeping requirements, Vessels, Waterways.

33 CFR Part 164

Marine safety, Navigation (water), Reporting and recordkeeping requirements, Waterways.

33 CFR Part 165

Harbors, Marine safety, Navigation (water), Reporting and recordkeeping requirements, Security measures, Waterways.

33 CFR Part 167

Harbors, Marine safety, Navigation (water), Waterways.

33 CFR Part 169

Endangered and threatened species, Marine mammals, Navigation (water), Radio, Reporting and recordkeeping requirements, Vessels, Water pollution control.

33 CFR Part 174

Intergovernmental relations, Marine safety, Reporting and recordkeeping requirements.

33 CFR Part 179

Marine safety, Reporting and recordkeeping requirements.

33 CFR Part 181

Labeling, Marine safety, Reporting and recordkeeping requirements.

33 CFR Part 183

Marine safety.

For the reasons discussed in the preamble, the Coast Guard amends 33 parts 1, 3, 8, 13, 19, 23, 25, 26, 27, 51, 67, 81, 84, 89, 96, 101, 104, 105, 110, 114, 116, 118, 120, 126, 127, 128, 135, 140, 141, 144, 148, 149, 150, 151, 153, 154, 155, 156, 157, 158, 159, 160, 164, 165, 167, 169, 174, 179, 181, and 183.

PART 1—GENERAL PROVISIONS

1. The authority citation for part 1 continues to read as follows:

Authority: 14 U.S.C. 633; 33 U.S.C. 401, 491, 525, 1321, 2716, and 2716a; 42 U.S.C. 9615; 49 U.S.C. 322; Department of Homeland Security Delegation No. 0170.1; section 1.01-70 also issued under the authority of E.O. 12580, 3 CFR, 1987 Comp., p. 193; and sections 1.01-80 and 1.01-85 also issued under the authority of E.O. 12777, 3 CFR, 1991 Comp., p. 351.

§ 1.01-60 [Amended]

2. In § 1.01-60(a), remove the words “Assistant Commandant for Operations” and add, in their place, the words “Deputy Commandant for Operations (CG-DCO)”.

3. In the table below, for each section indicated in the left column, remove the text indicated in the middle column from wherever it appears, and add, in its place, the text indicated in the right column:

Section | Remove | Add
1.01-70(b) | (G-M) | (CG-5).
1.05-20(a) | Second Street SW, Washington, DC 20593-0001 | 2nd St. SW., Stop 7121, Washington, DC 20593-7121.
1.10-5(a) | Second St., SW, Washington, DC 20593-0001 | 2nd St. SW., Stop 7101, Washington, DC 20593-7101.
1.26-5(b) | (G-WPM-3), 2100 Second St., SW, Washington, DC 20593 | (CG-1221) 2nd St. SW., Stop 7801, Washington, DC 20593-7801.

4. Amend § 1.05-1 as follows:

a. In paragraph (g), remove the words “Assistant Commandant for Operations” and add, in their place, the words “Deputy Commandant for Operations (CG-DCO)”; and

b. Add new paragraph (j) to read as follows:

§ 1.05-1 Delegation of rulemaking authority.

* * * * *

(j) The Commandant has redelegated to Coast Guard District Commanders the authority to redelegate in writing to the Coast Guard District Bridge Chief, with the reservation that this authority must not be further redelegated, the authority to issue temporary deviations from drawbridge operating regulations as the District Bridge Chief deems necessary.

§ 1.10-5 [Amended]

5. In § 1.10-5(a) and (c), after the words “Information Management”, add the designation “(CG-61)”.

§ 1.20-1 [Amended]

6. Amend § 1.20-1 as follows:

a. In paragraph(c), remove the words “Chief counsel, U.S. Coast Guard” and add, in their place, the words “Judge Advocate General and Chief Counsel, U.S. Coast Guard (CG-094)”; and after the words “Chief, Office of Claims and Litigation”, add the designation “(CG-0945)”.

b. In paragraph (d), remove the words “Chief Counsel or the Deputy Chief Counsel of the Coast Guard” and add, in their place, the words “Judge Advocate General and Chief Counsel or the Deputy Judge Advocate General and Deputy Chief Counsel of the Coast Guard (CG-094)”.

§ 1.26-5 [Amended]

7. In § 1.26-5(b), remove the designation “(G-WPM-3)” and add, in its place, the designation “(CG-1221)”.

§ 1.26-15 [Amended]

8. In § 1.26-15(d), (d)(1), and (d)(4), remove the designation “(FS)” and add, in its place, the designation “(CG-9)”.

§ 1.26-20 [Amended]

9. In § 1.26-20(b), remove the designation “(FS)” and add, in its place, the designation “(CG-9)”.

PART 3—COAST GUARD AREAS, DISTRICTS, SECTORS, MARINE INSPECTION ZONES, AND CAPTAIN OF THE PORT ZONES

10. The authority citation for part 3 continues to read as follows:

Authority: 14 U.S.C. 92; Pub. L. 107-296, 116 Stat. 2135; Department of Homeland Security Delegation No. 0170.1, para. 2(23).

11. Amend § 3.01-1 as follows:

a. Redesignate paragraph (b) as paragraph (b)(1); and

b. Add paragraph (b)(2) to read as follows:

§ 3.01-1 General description.

* * * * *

(b) * * *

(2) For search and rescue (SAR) mission execution in the Atlantic Area, Districts may execute SAR missions to the full extent of the Area's Search and Rescue Region (SRR). Under this plan, Districts in the Atlantic Area will assume SAR Coordinator responsibilities and will act as SAR Mission Coordinator for any case prosecuted within their expanded regions. The exact coordinates of Atlantic Area's SRR can be found in the United States National Search and Rescue Supplement to the International Aeronautical and Maritime Search and Rescue Manual.

* * * * *

12. Revise § 3.70-10 to read as follows:

§ 3.70-10 Sector Honolulu Marine Inspection Zone and Captain of the Port Zone.

Sector Honolulu's office is located in Honolulu, HI. The boundaries of Sector Honolulu's Marine Inspection Zone and Captain of the Port Zone comprise the State of Hawaii, including all the islands and atolls of the Hawaiian chain and the adjacent waters of the exclusive economic zone (EEZ); and the following islands and their adjacent waters of the EEZ: American Samoa, Johnston Atoll, Palmyra Atoll, Kingman Reef, Wake Island, Jarvis Island, Howland and Baker Islands, and Midway Island. Sector Honolulu's Marine Inspection Zone also includes the Independent State of Samoa.

13. In § 3.70-15, remove the words “on Victor Wharf, U.S. Naval Base, Guam.”, and add, in their place, the words “in Santa Rita, Guam.”; and at the end of the last sentence, add a new sentence to read as follows:

§ 3.70-15 Sector Guam Marine Inspection Zone and Captain of the Port Zone.

* * * Sector Guam's Marine Inspection Zone also includes the Republic of Palau, the Republic of the Marshall Islands, and the Federated States of Micronesia.

14. Add § 3.70-20 to read as follows:

§ 3.70-20 Activities Far East Marine Inspection Zone.

(a) Activities Far East's office is located in Yokota, Japan. The boundaries of Activities Far East's Marine Inspection Zone coincide with the boundaries of the Fourteenth Coast Guard District, which are described in § 3.70-1, excluding those areas within the Honolulu and Guam Marine Inspection Zones, as described in this part.

(b) Only for this part, the boundary between Activities Far East and Activities Europe Marine Inspection Zones is demarked by a southerly line bisecting the border of the Republic of India and the Islamic Republic of Pakistan.

PART 8—UNITED STATES COAST GUARD RESERVE

15. The authority citation for part 8 continues to read as follows:

Authority: 14 U.S.C. 633.

§ 8.7 [Amended]

16. In § 8.7(a), remove the phrase “(G-WTR), 2100 Second St., SW., Washington, DC 20593-0001” and add, in its place, the phrase “(CG-13), 2100 2nd St. SW., Stop 7801, Washington, DC 20593-7801”.

PART 13—DECORATIONS, MEDALS, RIBBONS AND SIMILAR DEVICES

17. The authority citation for part 13 continues to read as follows:

Authority: Secs. 500, 633, 63 Stat. 536, 545, sec. 6(b)(1), 80 Stat. 938; 14 U.S.C. 500, 633; 49 U.S.C. 1655(b); 49 CFR 1.4 (a)(2) and (f).

§ 13.01-15 [Amended]

18. In § 13.01-15(a), remove the phrase “Washington, DC 20593” and add, in its place, the phrase “2nd St. SW., Stop 7000, Washington, DC 20593-7000”.

PART 19—WAIVERS OF NAVIGATION AND VESSEL INSPECTION LAWS AND REGULATIONS

19. The authority citation for part 19 continues to read as follows:

Authority: Sec. 1, 64 Stat. 1120, sec. 6(b)(1), 80 Stat. 937; 46 U.S.C. note prec. 1, 49 U.S.C. 108; Department of Homeland Security Delegation No. 0170.1.

§ 19.06 [Amended]

20. In § 19.06, in paragraph (b) introductory text, remove the phrase “(G-MOC), U.S. Coast Guard, Washington, DC 20593-0001” and add, in its place, the phrase “(CG-543), 2100 2nd St. SW., Stop 7000, Washington, DC 20593-7000”; and in paragraph (d), remove the phrase “(G-MOC)” and add, in its place, the phrase “(CG-543)”.

PART 23—DISTINCTIVE MARKINGS FOR COAST GUARD VESSELS AND AIRCRAFT

21. The authority citation for part 23 continues to read as follows:

Authority: Secs. 638, 639, 63 Stat. 546; 14 U.S.C. 638, 639, E.O. 10707, 3 CFR, 1954-1958 Comp., p. 364.

§ 23.10 [Amended]

22. In § 23.10(d), remove the phrase “Washington, D.C. 20593” and add, in its place, the phrase “2100 2nd St. SW., Stop 7000, Washington, DC 20593-7000”.

§ 23.12 [Amended]

23. In § 23.12(c), remove the phrase “Washington, D.C. 20593” and add, in its place, the phrase “2100 2nd St. SW., Stop 7000, Washington, DC 20593-7000”.

PART 25—CLAIMS

24. The authority citation for part 25 continues to read as follows:

Authority: 14 U.S.C. 633; 49 CFR 1.45(a); 49 CFR 1.45(b); 49 CFR 1.46(b), unless otherwise noted.

§ 25.103 [Amended]

25. In § 25.103, after the words “assistance from the Coast Guard”, remove the phrase “Maintenance and Logistics Command Atlantic (lc), located at 300 East Main Street, Suite 965, Norfolk, VA 23510-9113 or from the Coast Guard Maintenance and Logistics Command Pacific (lc), located at Coast Guard Island, Alameda, California, 94501, or from Commandant (G-LCL), U.S. Coast Guard, Washington, DC 20593” and add, in its place, the phrase “Legal Service Command, Claims Division (LSC-5), located at 300 East Main Street, Suite 400, Norfolk, VA 23510-9100, or from Commandant (CG-0945), 2100 2nd St., SW., Stop 7121, Washington, DC 20593-7121”.

§ 25.111 [Amended]

26. In § 25.111(b)(3), remove the phrase “United States Coast Guard, 2100 Second Street, SW., Washington, D.C. 20593” and add, in its place, the phrase “(CG-0945), 2100 2nd St., SW., Stop 7121, Washington, DC 20593-7121”; and to the undesignated text following paragraph (b)(3) add the designation “Note to paragraph (b):”.

PART 26—VESSEL BRIDGE-TO-BRIDGE RADIOTELEPHONE REGULATIONS

27. The authority citation for part 26 continues to read as follows:

Authority: 14 U.S.C. 2, 33 U.S.C. 1201-1208; Pub. L. 107-295, 116 Stat. 2064; Department of Homeland Security Delegation No. 0170. Rule 1, International Regulations for the Prevention of Collisions at Sea.

§ 26.08 [Amended]

28. In § 26.08(c) introductory text, remove the phrase “2100 Second Street, SW., Washington, D.C. 20593-0001” and add, in its place, the phrase “(CG-5), 2100 2nd St., SW., Stop 7355, Washington, DC 20593-7355”.

PART 27—ADJUSTMENT OF CIVIL MONETARY PENALTIES FOR INFLATION

29. The authority citation for part 27 continues to read as follows:

Authority: Secs. 16, Pub. L. 101410, 104 Stat. 890, as amended by Sec. 31001(s)(1), Pub. L. 104134, 110 Stat. 1321 (28 U.S.C. 2461 note); Department of Homeland Security Delegation No. 0170.1, sec. 2 (106).

30. Revise § 27.3 to read as follows:

§ 27.3 Penalty Adjustment Table.

Table to § 27.3 identifies the statutes administered by the Coast Guard that authorize a civil monetary penalty. The “adjusted maximum penalty” is the maximum penalty authorized by the Federal Civil Penalties Inflation Adjustment Act of 1990, as amended, as determined by the Coast Guard.

Table to § 27.3—Civil Monetary Penalty Inflation Adjustments
U.S. code citation | Civil monetary penalty description | 2010 adjusted maximum penalty amount ($)
14 U.S.C. 88(c) | Saving Life and Property | 8,000
14 U.S.C. 645(i) | Confidentiality of Medical Quality Assurance Records (first offense) | 4,000
14 U.S.C. 645(i) | Confidentiality of Medical Quality Assurance Records (subsequent offenses) | 30,000
16 U.S.C. 4711(g)(1) | Aquatic Nuisance Species in Waters of the United States | 35,000
19 U.S.C. 70 | Obstruction of Revenue Officers by Masters of Vessels | 3,000
19 U.S.C. 70 | Obstruction of Revenue Officers by Masters of Vessels-Minimum Penalty | 700
19 U.S.C. 1581(d) | Failure to Stop Vessel When Directed; Master, Owner, Operator or Person in Charge ¹ | 5,000
19 U.S.C. 1581(d) | Failure to Stop Vessel When Directed; Master, Owner, Operator or Person in Charge-Minimum Penalty ¹ | 1,000
33 U.S.C. 471 | Anchorage Ground/Harbor Regulations General | 110
33 U.S.C. 474 | Anchorage Ground/Harbor Regulations St. Mary's river | 300
33 U.S.C. 495(b) | Bridges/Failure to Comply with Regulations ² | 25,000
33 U.S.C. 499(c) | Bridges/Drawbridges ² | 25,000
33 U.S.C. 502(c) | Bridges/Failure to Alter Bridge Obstructing Navigation ² | 25,000
33 U.S.C. 533(b) | Bridges/Maintenance and Operation ² | 25,000
33 U.S.C. 1208(a) | Bridge to Bridge Communication; Master, Person in Charge or Pilot | 800
33 U.S.C. 1208(b) | Bridge to Bridge Communication; Vessel | 800
33 U.S.C. 1232(a) | PWSA Regulations | 40,000
33 U.S.C. 1236(b) | Vessel Navigation: Regattas or Marine Parades; Unlicensed Person in Charge | 8,000
33 U.S.C. 1236(c) | Vessel Navigation: Regattas or Marine Parades; Owner Onboard Vessel | 8,000
33 U.S.C. 1236(d) | Vessel Navigation: Regattas or Marine Parades; Other Persons | 3,000
33 U.S.C. 1319 | Pollution Prevention | 40,000
33 U.S.C. 1319(2)(A) | Pollution Prevention (per violation) | 15,000
33 U.S.C. 1319(2)(A) | Pollution Prevention (Maximum—repeated violations) | 40,000
33 U.S.C. 1319(2)(B) | Pollution Prevention (per day of violation) | 15,000
33 U.S.C. 1319(2)(B) | Pollution Prevention (Maximum—repeated violations) | 190,000
33 U.S.C. 1321(b)(6)(B)(i) | Oil/Hazardous Substances: Discharges (Class I per violation) | 15,000
33 U.S.C. 1321(b)(6)(B)(i) | Oil/Hazardous Substances: Discharges (Class I total under paragraph) | 40,000
33 U.S.C. 1321(b)(6)(B)(ii) | Oil/Hazardous Substances: Discharges (Class II per day of violation) | 15,000
33 U.S.C. 1321(b)(6)(B)(ii) | Oil/Hazardous Substances: Discharges (Class II total under paragraph) | 190,000
33 U.S.C. 1321(b)(7)(A) | Oil/Hazardous Substances: Discharges (per day of violation) Judicial Assessment | 40,000
33 U.S.C. 1321(b)(7)(A) | Oil/Hazardous Substances: Discharges (per barrel of oil or unit discharged) Judicial Assessment | 1,100
33 U.S.C. 1321(b)(7)(B) | Oil/Hazardous Substances: Failure to Carry Out Removal/Comply With Order (Judicial Assessment) | 40,000
33 U.S.C. 1321(b)(7)(C) | Oil/Hazardous Substances: Failure to Comply with Regulation Issued Under 1321(j) (Judicial Assessment) | 40,000
33 U.S.C. 1321(b)(7)(D) | Oil/Hazardous Substances: Discharges, Gross Negligence (per barrel of oil or unit discharged) Judicial Assessment | 4,000
33 U.S.C. 1321(b)(7)(D) | Oil/Hazardous Substances: Discharges, Gross Negligence-Minimum Penalty (Judicial Assessment) | 130,000
33 U.S.C. 1322(j) | Marine Sanitation Devices; Operating | 3,000
33 U.S.C. 1322(j) | Marine Sanitation Devices; Sale or Manufacture | 8,000
33 U.S.C. 1608(a) | International Navigation Rules; Operator | 8,000
33 U.S.C. 1608(b) | International Navigation Rules; Vessel | 8,000
33 U.S.C. 1908(b)(1) | Pollution from Ships; General | 40,000
33 U.S.C. 1908(b)(2) | Pollution from Ships; False Statement | 8,000
33 U.S.C. 2072(a) | Inland Navigation Rules; Operator | 8,000
33 U.S.C. 2072(b) | Inland Navigation Rules; Vessel | 8,000
33 U.S.C. 2609(a) | Shore Protection; General | 40,000
33 U.S.C. 2609(b) | Shore Protection; Operating Without Permit | 15,000
33 U.S.C. 2716a(a) | Oil Pollution Liability and Compensation | 40,000
42 U.S.C. 9609(a) | Hazardous Substances, Releases, Liability, Compensation (Class I) | 35,000
42 U.S.C. 9609(b) | Hazardous Substances, Releases, Liability, Compensation (Class II) | 35,000
42 U.S.C. 9609(b) | Hazardous Substances, Releases, Liability, Compensation (Class II subsequent offense) | 100,000
42 U.S.C. 9609(c) | Hazardous Substances, Releases, Liability, Compensation (Judicial Assessment) | 35,000
42 U.S.C. 9609(c) | Hazardous Substances, Releases, Liability, Compensation (Judicial Assessment subsequent offense) | 100,000
46 U.S.C. App 1505(a)(2) | Safe Containers for International Cargo | 8,000
46 U.S.C. App 1712(a) | International Ocean Commerce Transportation-Common Carrier Agreements per violation | 6,000
46 U.S.C. App 1712(a) | International Ocean Commerce Transportation-Common Carrier Agreements per violation—Willfull violation | 30,000
46 U.S.C. App 1712(b) | International Ocean Commerce Transportation-Common Carrier Agreements-Fine for tariff violation (per shipment) | 60,000
46 U.S.C. App 1805(c)(2) | Suspension of Passenger Service | 70,000
46 U.S.C. 2110(e) | Vessel Inspection or Examination Fees | 8,000
46 U.S.C. 2115 | Alcohol and Dangerous Drug Testing | 7,000
46 U.S.C. 2302(a) | Negligent Operations: Recreational Vessels | 6,000
46 U.S.C. 2302(a) | Negligent Operations: Other Vessels | 30,000
46 U.S.C. 2302(c)(1) | Operating a Vessel While Under the Influence of Alcohol or a Dangerous Drug | 7,000
46 U.S.C. 2306(a)(4) | Vessel Reporting Requirements: Owner, Charterer, Managing Operator, or Agent | 8,000
46 U.S.C. 2306(b)(2) | Vessel Reporting Requirements: Master | 1,100
46 U.S.C. 3102(c)(1) | Immersion Suits | 8,000
46 U.S.C. 3302(i)(5) | Inspection Permit | 1,100
46 U.S.C. 3318(a) | Vessel Inspection; General | 8,000
46 U.S.C. 3318(g) | Vessel Inspection; Nautical School Vessel | 8,000
46 U.S.C. 3318(h) | Vessel Inspection; Failure to Give Notice IAW 3304(b) | 1,100
46 U.S.C. 3318(i) | Vessel Inspection; Failure to Give Notice IAW 3309(c) | 1,100
46 U.S.C. 3318(j)(1) | Vessel Inspection; Vessel ≥ 1600 Gross Tons | 15,000
46 U.S.C. 3318(j)(1) | Vessel Inspection; Vessel < 1600 Gross Tons | 3,000
46 U.S.C. 3318(k) | Vessel Inspection; Failure to Comply with 3311(b) | 15,000
46 U.S.C. 3318(l) | Vessel Inspection; Violation of 3318(b)-3318(f) | 8,000
46 U.S.C. 3502(e) | List/count of Passengers | 110
46 U.S.C. 3504(c) | Notification to Passengers | 15,000
46 U.S.C. 3504(c) | Notification to Passengers; Sale of Tickets | 800
46 U.S.C. 3506 | Copies of Laws on Passenger Vessels; Master | 300
46 U.S.C. 3718(a)(1) | Liquid Bulk/Dangerous Cargo | 40,000
46 U.S.C. 4106 | Uninspected Vessels | 8,000
46 U.S.C. 4311(b)(1) | Recreational Vessels (maximum for related series of violations) | 300,000
46 U.S.C. 4311(b)(1) | Recreational Vessels; Violation of 4307(a) | 6,000
46 U.S.C. 4311(c) | Recreational Vessels | 1,100
46 U.S.C. 4507 | Uninspected Commercial Fishing Industry Vessels | 8,000
46 U.S.C. 4703 | Abandonment of Barges | 1,100
46 U.S.C. 5116(a) | Load Lines | 8,000
46 U.S.C. 5116(b) | Load Lines; Violation of 5112(a) | 15,000
46 U.S.C. 5116(c) | Load Lines; Violation of 5112(b) | 8,000
46 U.S.C. 6103(a) | Reporting Marine Casualties | 35,000
46 U.S.C. 6103(b) | Reporting Marine Casualties; Violation of 6104 | 8,000
46 U.S.C. 8101(e) | Manning of Inspected Vessels; Failure to Report Deficiency in Vessel Complement | 1,100
46 U.S.C. 8101(f) | Manning of Inspected Vessels | 15,000
46 U.S.C. 8101(g) | Manning of Inspected Vessels; Employing or Serving in Capacity not Licensed by USCG | 15,000
46 U.S.C. 8101(h) | Manning of Inspected Vessels; Freight Vessel < 100 GT, Small Passenger Vessel, or Sailing School Vessel | 1,100
46 U.S.C. 8102(a) | Watchmen on Passenger Vessels | 1,100
46 U.S.C. 8103(f) | Citizenship Requirements | 800
46 U.S.C. 8104(i) | Watches on Vessels; Violation of 8104(a) or (b) | 15,000
46 U.S.C. 8104(j) | Watches on Vessels; Violation of 8104(c), (d), (e), or (h) | 15,000
46 U.S.C. 8302(e) | Staff Department on Vessels | 110
46 U.S.C. 8304(d) | Officer's Competency Certificates | 110
46 U.S.C. 8502(e) | Coastwise Pilotage; Owner, Charterer, Managing Operator, Agent, Master or Individual in Charge | 15,000
46 U.S.C. 8502(f) | Coastwise Pilotage; Individual | 15,000
46 U.S.C. 8503 | Federal Pilots | 40,000
46 U.S.C. 8701(d) | Merchant Mariners Documents | 800
46 U.S.C. 8702(e) | Crew Requirements | 15,000
46 U.S.C. 8906 | Small Vessel Manning | 35,000
46 U.S.C. 9308(a) | Pilotage: Great Lakes; Owner, Charterer, Managing Operator, Agent, Master or Individual in Charge | 15,000
46 U.S.C. 9308(b) | Pilotage: Great Lakes; Individual | 15,000
46 U.S.C. 9308(c) | Pilotage: Great Lakes; Violation of 9303 | 15,000
46 U.S.C. 10104(b) | Failure to Report Sexual Offense | 8,000
46 U.S.C. 10314(a)(2) | Pay Advances to Seamen | 800
46 U.S.C. 10314(b) | Pay Advances to Seamen; Remuneration for Employment | 800
46 U.S.C. 10315(c) | Allotment to Seamen | 800
46 U.S.C. 10321 | Seamen Protection; General | 7,000
46 U.S.C. 10505(a)(2) | Coastwise Voyages: Advances | 7,000
46 U.S.C. 10505(b) | Coastwise Voyages: Advances; Remuneration for Employment | 7,000
46 U.S.C. 10508(b) | Coastwise Voyages: Seamen Protection; General | 7,000
46 U.S.C. 10711 | Effects of Deceased Seamen | 300
46 U.S.C. 10902(a)(2) | Complaints of Unfitness | 800
46 U.S.C. 10903(d) | Proceedings on Examination of Vessel | 110
46 U.S.C. 10907(b) | Permission to Make Complaint | 800
46 U.S.C. 11101(f) | Accommodations for Seamen | 800
46 U.S.C. 11102(b) | Medicine Chests on Vessels | 800
46 U.S.C. 11104(b) | Destitute Seamen | 110
46 U.S.C. 11105(c) | Wages on Discharge | 800
46 U.S.C. 11303(a) | Log Books; Master Failing to Maintain | 300
46 U.S.C. 11303(b) | Log Books; Master Failing to Make Entry | 300
46 U.S.C. 11303(c) | Log Books; Late Entry | 200
46 U.S.C. 11506 | Carrying of Sheath Knives | 80
46 U.S.C. 12151(a) | Documentation of Vessels (violation per day) | 15,000
46 U.S.C. 12151(c) | Engaging in Fishing After Falsifying Eligibility (fine per day) | 130,000
46 U.S.C. 12309(a) | Numbering of Undocumented Vessels—Willfull violation | 6,000
46 U.S.C. 12309(b) | Numbering of Undocumented Vessels | 1,100
46 U.S.C. 12507(b) | Vessel Identification System | 15,000
46 U.S.C. 14701 | Measurement of Vessels | 30,000
46 U.S.C. 14702 | Measurement; False Statements | 30,000
46 U.S.C. 31309 | Commercial Instruments and Maritime Liens | 15,000
46 U.S.C. 31330(a)(2) | Commercial Instruments and Maritime Liens; Mortgagor | 15,000
46 U.S.C. 31330(b)(2) | Commercial Instruments and Maritime Liens; Violation of 31329 | 35,000
46 U.S.C. 70119 | Port Security | 30,000
46 U.S.C. 70119(b) | Port Security-Continuing Violations | 50,000
49 U.S.C. 5123(a)(1) | Hazardous Materials: Related to Vessels-Maximum Penalty | 60,000
49 U.S.C. 5123(a)(1) | Hazardous Materials: Related to Vessels-Minimum Penalty | 300
49 U.S.C. 5123(a)(2) | Hazardous Materials: Related to Vessels-Penalty from Fatalities, Serious Injuries/Illness or Substantial Damage to Property | 110,000
Note: The changes in Civil Penalties for calendar year 2010, shown above, are based on the change in CPI-U from June 2008 to June 2009. The recorded change in CPI-U during that period was −1.43 percent. Because of the small change in CPI-U and the required rules for rounding, there was no change to any of the maximum penalty amounts from the previous adjustment.
¹ Enacted under the Tariff Act of 1930, exempt from inflation adjustments.
² These penalties increased in accordance with the statute to $10,000 in 2005, $15,000 in 2006, $20,000 in 2007, and $25,000 in 2008 and thereafter.

PART 51—COAST GUARD DISCHARGE REVIEW BOARD

31. The authority citation for part 51 continues to read as follows:

Authority: 10 U.S.C. 1553; Pub. L. 107-296, 116 Stat. 2135.

§ 51.9 [Amended]

32. In § 51.9(b), remove the phrase “(G-WPM), U.S. Coast Guard Headquarters, 2100 2nd Street, SW., Washington, D.C. 20593” and add, in its place, the phrase “(CG-12), 2100 2nd St., SW., Stop 7801, Washington, DC 20593-7801”.

PART 67—AIDS TO NAVIGATION ON ARTIFICIAL ISLANDS AND FIXED STRUCTURES

33. The authority citation for part 67 continues to read as follows:

Authority: 14 U.S.C. 85, 633; 43 U.S.C. 1333; Department of Homeland Security Delegation No. 0170.1.

§ 67.10-25 [Amended]

34. In § 67.10-25(a) introductory text, remove the phrase “U.S. Coast Guard Headquarters, 2100 Second Street SW., Washington, D.C. 20593-0001” and add, in its place, the phrase “(CG-541), 2100 2nd St., SW., Stop 7581, Washington, DC 20593-7581”.

PART 81—72 COLREGS: IMPLEMENTING RULES

35. The authority citation for part 81 continues to read as follows:

Authority: 33 U.S.C. 1607; E.O. 11964; 49 CFR 1.46.

§ 81.18 [Amended]

36. In § 81.18(b), remove the phrase “2100 Second Street, SW., Washington, D.C. 20593-0001” and add, in its place, the phrase “(CG-5), 2100 2nd St., SW., Stop 7355, Washington, DC 20593-7355”.

PART 84—ANNEX I: POSITIONING AND TECHNICAL DETAILS OF LIGHTS AND SHAPES

37. The authority citation for part 84 continues to read as follows:

Authority: 33 U.S.C. 2071; Department of Homeland Security Delegation No. 0170.1.

§ 84.13 [Amended]

38. In § 84.13(a), remove the phrase “2100 Second Street, SW., Washington, D.C. 20593-0001” and add, in its place, the phrase “(CG-432), 2100 2nd St., SW., Stop 7901, Washington, DC 20593-7901”.

PART 89—INLAND NAVIGATION RULES: IMPLEMENTING RULES

39. The authority citation for part 89 continues to read as follows:

Authority: 33 U.S.C. 2071; 49 CFR 1.46(n)(14).

§ 89.18 [Amended]

40. In § 89.18(a), remove the phrase “2100 Second Street, SW., Washington, D.C. 20593-0001” and add, in its place, the phrase “(CG-5), 2100 2nd St. SW., Stop 7355, Washington, DC 20593-7355”.

PART 96—RULES FOR THE SAFE OPERATION OF VESSELS AND SAFETY MANAGEMENT SYSTEMS

41. The authority citation for part 96 continues to read as follows:

Authority: 46 U.S.C. 3201 et seq.; 46 U.S.C. 3103; 46 U.S.C. 3316, 33 U.S.C. 1231; 49 CFR 1.45, 49 CFR 1.46.

42. In the table below, for each section indicated in the left column, remove the text indicated in the middle column from wherever it appears, and add, in its place, the text indicated in the right column:

Section | Remove | Add
96.130(a) | (G-MSE), 2100 Second St., SW., Washington, DC 20593-0001 | (CG-521), 2100 2nd St. SW., Stop 7126, Washington, DC 20593-7126.
96.400(b) | (G-MSE), 2100 Second St., SW., Washington, DC 20593-0001 | (CG-521), 2100 2nd St., SW., Stop 7126, Washington, DC 20593-7126.
96.430(a) introductory text | (G-MSE), Office of Design and Engineering Standards, 2100 Second Street, SW, Washington, DC 20593-0001 | (CG-521), Office of Design and Engineering Standards, 2100 2nd St. SW., Stop 7126, Washington, DC 20593-7126.
96-460(a)(3) | G-MOC | CG-543.
96-495(a),(b)&(c) | G-MOC | CG-543.

PART 101—MARITIME SECURITY: GENERAL

43. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.115 [Amended]

44. In § 101.115(a), remove the phrase “2100 Second Street, SW., Washington, DC 20593-0001” and add, in its place, the phrase “2100 2nd St., SW., Stop 7581, Washington, DC 20593-7581”.

PART 104—MARITIME SECURITY: VESSELS

45. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.130 [Amended]

46. In § 104.130, remove the phrase “2100 Second Street SW., Washington, D.C. 20593” and add, in its place, the phrase “2100 2nd St. SW., Stop 7581, Washington, DC 20593-7581”.

§ 104.400 [Amended]

47. In § 104.400(b), remove the phrase “JR10-0525, 2100 2nd Street, SW., Washington, D.C. 20593” and add, in its place, the phrase “2100 2nd St. SW., Stop 7102, Washington, DC 20593-7102”.

PART 105—MARITIME SECURITY: FACILITIES

48. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.130 [Amended]

49. In § 105.130, remove the phrase “2100 Second Street SW., Washington, D.C. 20593” and add, in its place, the phrase “2100 2nd St. SW., Stop 7581, Washington, DC 20593-7581”.

PART 110—ANCHORAGE REGULATIONS

50. The authority citation for part 110 continues to read as follows:

Authority: 33 U.S.C. 1231, 1321(j); 46 U.S.C. 3703; E.O. 12777, 56 FR 54757, 3 CFR, 1991 Comp., p. 351; Department of Homeland Security Delegation No. 0170.1. Sections 155.100 through 155.130, 150.350 through 155.400, 155.430, 155.440, 155.470, 155.1030(j) and (k), and 155.1065(g) are also issued under 33 U.S.C. 1903(b). Section 155.490 also issued under section 4110(b) of Pub. L. 101-380. Sections 155.1110 through 155.1150 also issued under 33 U.S.C. 2735.

51. In § 110.60:

a. Revise paragraphs (a)(1), (a)(12), (a)(16), (b)(5), and (c)(6) introductory text;

b. Redesignate the note following paragraph (a)(2) as “Note to paragraph (a)(2)”;

c. Redesignate the note following paragraph (a)(13) as “Note to paragraph (a)(13)”;

d. Redesignate the note following paragraph (b)(6) as “Note to paragraphs (b)(5) and (6)”;

e. Redesignate the note following paragraph (c)(3) as “Note to to paragraph (c)(3)”;

f. Redesignate the note following paragraph (c)(6) as “Note to paragraphs (c)(5) and (6)”;

g. Redesignate the note following paragraph (d)(3) as “Note to paragraph (d)(3)”; and

h. Redesignate the note following paragraph (d)(5) as “Note to paragraph (d)(5)”.

The revisions read as follows:

§ 110.60 Captain of the Port, New York.

(a) * * *

(1) Glen Island. All waters surrounding Glen Island bound by the following points: 40°52′53.1″ N, 073°46′58.9″ W; thence to 40°52′46.6″ N, 073°47′02.7″ W; thence to 40°53′01.3″ N, 073°47′22.6″ W; thence to a line drawn from 40°53′24.4″ N, 073°46′56.7″ W to 40°53′20.6″ N, 073°46′51.2″ W, excluding all waters within 25 feet of the 50-foot channel west and south of Glen Island.

* * * * *

(12) Manhasset Bay, Plandome. All waters bound by the following points: 40°48′41.6″ N, 073°42.31.7″ W; thence to 40°48′43.6″ N, 073°42′42.5″ W; thence to 40°48′29.0″ N, 073°42′44.4″ W; thence to 40°48′27.3″ N, 073°42′35.6″ W; thence along the shoreline to the point of origin.

* * * * *

(16) Hempstead Harbor, Sea Cliff. All waters bound by the following points: 40°51′16.7″ N, 073°38′51.9″ W; thence to 40°51′12.9″ N, 073°39′07.2″ W; thence to 40°51′03.6″ N, 073°39′31.6″ W; thence to 40°50′24.7″ N, 073°39′26.4″ W; thence to 40°50′22.0″ N, 073°39′10.2″ W; thence along the shoreline to the point of origin.

(b) * * *

(5) Flushing Bay, Southwest Area. All waters bound by the following points: 40°45′36.7″ N, 073°51′16.3″ W; thence to 40°45′48.5″ N, 073°50′58.4″ W; thence to 40°45′51.3″ N, 073°50′59.2″ W; thence to 40°45′49.4″ N, 073°51′07.5″ W; thence to 40°45′58.7″ N, 073°51′13.4″ W; thence to 40°46′02.1″ N, 073°51′20.1″ W; thence to 40°45′54.8″ N, 073°51′28.7″ W; thence to 40°45′46.2″ N, 073°51′35.3″ W; thence northward along the shoreline and breakwater to the point of origin.

* * * * *

(c) * * *

(6) Yonkers, JFK Marina. All waters bound by the following points: 40°57′28.5″ N, 073°53′46.0″ W; thence to 40°57′30.5″ N, 073°53′56.8″ W; thence to 40°57′07.5″ N, 073°54′06.2″ W; thence to 40°57′06.0″ N, 073°53′59.5″ W; thence along the shoreline to the point of origin.

* * * * *

§ 110.228 [Amended]

52. In § 110.228—

a. In paragraph (a)(4), after the text “latitude 46°00′36.82″ N,”, add the text “longitude 122°51′30.90″ W; thence continuing west-northwesterly to latitude 46°00′51.32″ N,”;

b. In paragraph (a)(5), after the text “thence continuing south-southeasterly to latitude”, remove the coordinate “45°53′21.16″ N” and add, in its place, the coordinate “45°53′27.16″ N”; and after the text “thence continuing northwesterly to latitude 45°53′41.50″ N, longitude”, remove the coordinate “12°48′13.53″ W” and add, in its place, the coordinate “122°48′13.53″ W”; and

c. In paragraph (a)(7), after the text “thence continuing northerly to latitude 45°41′29.07″ N, longitude”, remove the coordinate “12°46′26.15″ W”; and add, in its place, the coordinate “122°46′26.15″ W.”

PART 114—GENERAL

53. The authority citation for part 114 continues to read as follows:

Authority: 33 U.S.C. 401, 406, 491, 494, 495, 499, 502, 511, 513, 514, 516, 517, 519, 521, 522, 523, 525, 528, 530, 533, and 535(c), (e), and (h); 14 U.S.C. 633; 49 U.S.C. 1655(g); Pub. L. 107-296, 116 Stat. 2135; 33 CFR 1.05-1 and 1.01-60, Department of Homeland Security Delegation Number 0170.1.

§ 114.05 [Amended]

54. Amend § 114.05 as follows:

a. In paragraph (g), remove the text “20593” and add, in its place, the text “20593-7000”.

b. In paragraph (l), remove the phrase “Assistant Commandant for Operations” and replace with “Deputy Commandant for Operations”; and remove the phrase “Office of Navigation Safety and Waterway Services” and replace with “Director of Marine Transportation Systems Management, (CG-55)”.

§ 114.50 [Amended]

55. In § 114.50, remove the phrase “2100 Second Street SW., Washington, DC 20593-0001” and add, in its place, the phrase “(CG-5411), 2100 2nd St. SW., Stop 7581, Washington, DC 20593-7581”.

PART 116—ALTERATION OF UNREASONABLY OBSTRUCTIVE BRIDGES

56. The authority citation for part 116 continues to read as follows:

Authority: 33 U.S.C. 401, 521; 49 U.S.C. 1655(g); 49 CFR 1.4, 1.46(c).

§ 116.55 [Amended]

57. Amend § 116.55 as follows:

a. In paragraph (a) and (b), remove the phrase “Assistant Commandant for Operations” and add, in its place, the phrase “Deputy Commandant for Operations”; and

b. In paragraph (b), remove the phrase “2100 Second Street, SW., Washington, DC 20593-0001” and add, in its place, the phrase “(CG-3), 2100 2nd St. SW., Stop 7238, Washington, DC 20593-7238”.

PART 118—BRIDGE LIGHTING AND OTHER SIGNALS

58. The authority citation for part 118 continues to read as follows:

Authority: 33 U.S.C. 494; 14 U.S.C. 85, 633; Department of Homeland Security Delegation No. 0170.1.

§ 118.3 [Amended]

59. In § 118.3(b), remove the phrase “room 3500, 2100 Second Street, SW., Washington, DC 20593-0001” and add, in its place, the phrase “(CG-5411), 2100 2nd St. SW., Stop 7581, Washington, DC 20593-7581”.

PART 120—SECURITY OF PASSENGER VESSELS

60. The authority citation for part 120 continues to read as follows:

Authority: 33 U.S.C. 1231; Department of Homeland Security Delegation No. 0170.

§ 120.120 [Amended]

61. In § 120.120(a), remove the phrase “(G-MES), 2100 Second Street SW., Washington, DC” and add, in its place, the phrase “(CG-521), 2100 2nd St. SW., Stop 7126, Washington, DC 20593-7126”.

§ 120.220 [Amended]

62. In § 120.220(b), remove the phrase “(G-MOR), U.S. Coast Guard Headquarters, 2100 Second Street SW., Washington, DC 20593-0001” and add, in its place, the phrase “(CG-533), 2100 2nd St. SW., Stop 7363, Washington, DC 20593-7363”; and remove the phrase “(G-MOR) by fax” and add, in its place, the phrase “(CG-533) by fax”.

§ 120.305 [Amended]

63. In § 120.305(a), remove the phrase “JR10-0525, 2100 2nd Street, SW., Washington, DC 20593” and add, in its place, the phrase “2100 2nd St. SW., Stop 7102, Washington, DC 20593-7102”.

PART 126—HANDLING OF DANGEROUS CARGO AT WATERFRONT FACILITIES

64. The authority citation for part 126 continues to read as follows:

Authority: 33 U.S.C. 1231; 49 CFR 1.46.

§ 126.5 [Amended]

65. In § 126.5(a), remove the phrase “(G-MSO-2), room 1210, 2100 Second Street SW., Washington, DC 20593-0001” and add, in its place, the phrase “(CG-522), 2100 2nd St. SW., Stop 7126, Washington, DC 20593-7126”.

PART 127—WATERFRONT FACILITIES HANDLING LIQUEFIED NATURAL GAS AND LIQUEFIED HAZARDOUS GAS

66. The authority citation for part 127 continues to read as follows:

Authority: 33 U.S.C. 1231; Department of Homeland Security Delegation No. 0170.1.

§ 127.003 [Amended]

67. In § 127.003(a), remove the phrase “(G-MOC), Room 1108, 2100 Second Street SW., Washington, DC 20593-0001” and add, in its place, the phrase “(CG-543), 2100 2nd St., SW., Stop 7581, Washington, DC 20593-7581”.

§ 127.015 [Amended]

68. In § 127.015(c)(1), remove the phrase “Washington, DC 20593-0001” and add, in its place, the phrase “(CG-5), 2100 2nd St., SW., Stop 7355, Washington, DC 20593-7355”.

PART 128—SECURITY OF PASSENGER TERMINALS

69. The authority citation for part 128 continues to read as follows:

Authority: 33 U.S.C. 1231; 49 CFR 1.46.

§ 128.120 [Amended]

70. In § 128.120(a), remove the phrase “(G-MSE), 2100 Second Street, SW., Washington, DC” and add, in its place, the phrase “(CG-521), 2100 2nd St., SW., Stop 7126, Washington, DC 20593-7126”.

PART 135—OFFSHORE OIL POLLUTION COMPENSATION FUND

71. The authority citation for part 135 continues to read as follows:

Authority: 33 U.S.C. 2701-2719; E.O. 12777, 56 FR 54757; Department of Homeland Security Delegation No. 0170.1, para. 2(80).

§ 135.305 [Amended]

72. In § 135.305(a)(1), remove the phrase “Room 2111, 2100 Second Street, SW., Washington, DC 20593-0001” and add, in its place, the phrase “(CG-3112), 2100 2nd St. SW., Stop 7238, Washington, DC 20593-7238”.

PART 140—GENERAL

73. The authority citation for part 140 continues to read as follows:

Authority: 43 U.S.C. 1333, 1348, 1350, 1356; Department of Homeland Security Delegation No. 0170.1.

§ 140.7 [Amended]

74. In § 140.7(a), remove the phrase “(G-MOC), 2100 Second Street, SW., Washington, DC 20593-0001” and add, in its place, the phrase “(CG-543), 2100 2nd St. SW., Stop 7581, Washington, DC 20593-7581”.

§ 140.15 [Amended]

75. In § 140.15(b), remove the phrase “(G-MSE), U.S. Coast Guard, Washington, DC 20593-0001” and add, in its place, the phrase “(CG-521), 2100 2nd St., SW., Stop 7126, Washington, DC 20593-7126”.

PART 141—PERSONNEL

76. The authority citation for part 141 continues to read as follows:

Authority: 43 U.S.C. 1356; 46 U.S.C. 70105; 49 CFR 1.46(z).

§ 141.20 [Amended]

77. In § 141.20(c), remove the phrase “(G-MOC), U.S. Coast Guard Headquarters, 2100 2nd Street, SW., Washington, D.C. 20593” and add, in its place, the phrase “(CG-543), 2100 2nd St. SW., Stop 7581, Washington, DC 20593-7581”.

PART 144—LIFESAVING APPLIANCES

78. The authority citation for part 144 continues to read as follows:

Authority: 43 U.S.C. 1333d; 46 U.S.C. 3102(a); 46 CFR 1.46.

§ 144.30-5 [Amended]

79. In § 144.30-5(a), remove the phrase “(G-MSE), Washington, DC 20593-0001” and add, in its place, the phrase “(CG-521), 2100 2nd St. SW., Stop 7126, Washington, DC 20593-7126”.

PART 148—DEEPWATER PORTS: GENERAL

80. The authority citation for part 148 continues to read as follows:

Authority: 33 U.S.C. 1504; Department of Homeland Security Delegation No. 0170.1 (75).

81. In part 148, remove the phrase “(G-P)” from wherever it appears, and add, in its place, the phrase “(CG-5)”.

82. In the table below, for each section indicated in the left column, remove the text indicated in the middle column from wherever it appears in the section, and add, in its place, the text indicated in the right column:

Section | Remove | Add
148.5 | G-PSO | CG-522.
148.115(a) | (G-PSO), U.S. Coast Guard, 2100 Second Street SW., Washington, DC 20593-0001 | (CG-522), 2100 2nd St., SW., Stop 7126, Washington, DC 20593-7126.

PART 149—DEEPWATER PORTS: DESIGN, CONSTRUCTION, AND EQUIPMENT

83. The authority citation for part 149 continues to read as follows:

Authority: 33 U.S.C. 1504; Department of Homeland Security Delegation No. 0170.1 (75).

84. In part 149, remove the phrase “(G-P)” from wherever it appears, and add, in its place, the phrase “(CG-5)”.

PART 150—DEEPWATER PORTS: OPERATIONS

85. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

86. In part 150, remove the phrase “(G-P)” from wherever it appears, and add, in its place, the phrase “(CG-5)”.

PART 151—VESSELS CARRYING OIL, NOXIOUS LIQUID SUBSTANCES, GARBAGE, MUNICIPAL OR COMMERCIAL WASTE, AND BALLAST WATER

87. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

88. In the table below, for each section indicated in the left column, remove the text indicated in the middle column from wherever it appears in the citation, and add, in its place, the text indicated in the right column:

Section | Remove | Add
151.27(b) | 2100 Second Street, SW., Washington, DC 20593-0001 | 2100 2nd St., SW., Stop 7581, Washington, DC 20593-7581.
151.66(c)(3)(iv)(C) | CGHQ Room 1210, 2100 Second Street, SW, Washington, DC 20593-0001 | 2100 2nd St., SW., Stop 7126, Washington, DC 20593-7126.
151.1012(a) introductory text | 2100 Second Street, SW., Washington, DC 20593-0001 | 2100 2nd St., SW., Stop 7581, Washington, DC 20593-7581.
151.1021(b)(1) | 2100 Second Street, SW., Washington, DC 20593-0001 | 2100 2nd St., SW., Stop 7355, Washington, DC 20593-7355.
151.1510(a)(3) | (G-M), U.S. Coast Guard Headquarters, 2100 Second Street, SW., Washington, DC 20593-0001 | (CG-5), 2100 2nd Street, SW., Stop 7355, Washington, DC 20593-7355.
Appendix to Subpart D of Part 151 (last paragraph) | 2100 Second St., SW, Washington, DC 20593-0001 | 2100 2nd St., SW. Stop 7126, Washington, DC 20593-7126.

PART 153—CONTROL OF POLLUTION BY OIL AND HAZARDOUS SUBSTANCES, DISCHARGE REMOVAL

89. The authority citation for part 153 continues to read as follows:

Authority: 14 U.S.C. 633; 33 U.S.C. 1321, 1903, 1908; 42 U.S.C. 9615; 46 U.S.C. 6101; E.O. 12580, 3 CFR, 1987 Comp., p. 193; E.O. 12777, 3 CFR, 1991 Comp., p. 351; Department of Homeland Security Delegation No. 0170.1.

§ 153.203 [Amended]

90. In § 153.203, remove the phrase “Room 2111, 2100 Second Street, SW., Washington, DC 20593-0001” and add, in its place, the phrase “2100 2nd St., SW., Stop 7238, Washington, DC 20593-7238”.

§ 153.411 [Amended]

91. In § 153.411, remove the phrase “(G-L), 2100 Second Street, SW., Washington, D.C. 20593” and add, in its place, the phrase “(CG-094), 2100 2nd St., SW., Stop 7238, Washington, DC 20593-7238”.

PART 154—FACILITIES TRANSFERRING OIL OR HAZARDOUS MATERIAL IN BULK

92. The authority citation for part 154 continues to read as follows:

Authority: 33 U.S.C. 1231, 1321(j)(1)(C), (j)(5), (j)(6), and (m)(2); sec. 2, E.O. 12777, 56 FR 54757; Department of Homeland Security Delegation No. 0170.1. Subpart F is also issued under 33 U.S.C. 2735.

93. In the table below, for each section indicated in the left column, remove the text indicated in the middle column from wherever it appears in the citation, and add, in its place, the text indicated in the right column:

Section | Remove | Add
154.106(a) | 2100 Second Street, SW., Washington, DC 20593-0001 | 2100 2nd St., SW., Stop 7363, Washington, DC 20593-7363.
154.800(b) | G-MSO | CG-522.
154.802 | G-MSO | CG-522.
154.806(a), (b) introductory text, (d), and the section note | G-MSO | Stop 7363, Washington, DC 20593-7363.
154.822(a)(2), (b) | G-MSO | CG-522.
154.826(a)(3) | G-MSO | CG-522.
154.828(a)(3) | G-MSO | CG-522.
154.1075(d) | G-MOR | CG-535.
Appendix A to Part 154 introductory text | G-MSO | CG-522.
Appendix C to Part 154, 6.3.2 | (G-MOR), Coast Guard Headquarters, 2100 Second Street, SW., Washington, DC 20593 | (CG-535), 2100 2nd St., SW., Stop 7363, Washington, DC 20593-7363.

PART 155—OIL OR HAZARDOUS MATERIAL POLLUTION PREVENTION REGULATIONS FOR VESSELS

94. The authority citation for part 155 continues to read as follows:

Authority: 33 U.S.C. 1231, 1321(j); 46 U.S.C. 3703; E.O. 12777, 56 FR 54757, 3 CFR, 1991 Comp., p. 351; Department of Homeland Security Delegation No. 0170.1. Sections 155.100 through 155.130, 150.350 through 155.400, 155.430, 155.440, 155.470, 155.1030(j) and (k), and 155.1065(g) are also issued under 33 U.S.C. 1903(b). Section 155.490 also issued under section 4110(b) of Pub. L. 101-380. Sections 155.1110 through 155.1150 also issued under 33 U.S.C. 2735.

PART 155—[AMENDED]

95. In the table below, for each section indicated in the left column, remove the text indicated in the middle column from wherever it appears in the citation, and add, in its place, the text indicated in the right column:

Section | Remove | Add
155.140(a) | 2100 Second Street, SW., Washington, DC 20593-0001 | (CG-543), 2100 2nd St., SW., Stop 7581, Washington, DC 20593-7581.
155.230(b)(3) | (G-MSE) | (CG-521).
155.1035(b)(5)(i) introductory text | 2100 Second Street, SW., Washington, DC 20593-0001 | 2100 2nd St., SW., Stop 7126, Washington, DC 20593-7126.
155.1065(a)&(h) | 2100 Second Street, SW., Washington, DC 20593-0001 | 2100 2nd St., SW., Stop 7581, Washington, DC 20593-7581.
155.1070(f) introductory text | 2100 Second Street, SW., Washington, DC 20593-0001 | 2100 2nd St., SW., Stop 7581, Washington, DC 20593-7581.
Appendix B to part 155, 6.5 | 2100 Second Street, SW., Washington, DC 20593 | 2100 2nd St.,SW., Stop 7581, Washington, DC 20593-7581.

§ 155.1020 [Amended]

96. In § 155.1020, in the definition for “Contract or other approved means”, in paragraph (5)(ii), remove the text “155.1050(l)”, and add, in its place, the text “155.1050(j)”; and in paragraph (5)(iii), remove the text “155.1050(k)” and add, in its place, the text “155.1050(j)”.

§ 155.1035 [Amended]

97. In § 155.1035, in paragraph (e)(6)(i), remove the text “155.1050(l)” and add, in its place, the text “155.1050(j)”; and in paragraph (e)(6)(ii), remove the text “155.1050(k)” and add, in its place, the text “155.1050(j)”.

§ 155.1040 [Amended]

98. In § 155.1040, in paragraph (e)(5)(i), remove the text “155.1050(l)” and add, in its place, the text “155.1050(j)”; and in paragraph (e)(5)(ii), remove the text “155.1050(k)” and add, in its place, the text “155.1050(j)”.

§ 155.4030 [Amended]

99. In § 155.4030(g), remove the number “0.16” and add, in its place, the number “0.016”.

100. Revise § 155.4035(b)(1) to read as follows:

§ 155.4035 Required pre-incident information and arrangements for the salvage and marine firefighting resource providers listed in response plans.

* * * * *

(b) * * *

(1) You must prepare a vessel pre-fire plan in accordance with NFPA 1405, Guide for Land-Based Firefighters Who Respond to Marine Vessel Fires, Chapter 9 (Incorporation by reference, see § 155.140). If the planholder's vessel pre-fire plan is one that meets another regulation, such as SOLAS Chapter II-2, Regulation 15, or international standard, a copy of that specific fire plan must also be given to the resource provider(s) instead of the NFPA 1405 pre-fire plan, and be attached to the VRP.

* * * * *

PART 156—OIL AND HAZARDOUS MATERIAL TRANSFER OPERATIONS

101. The authority citation for part 156 continues to read as follows:

Authority: 33 U.S.C. 1231, 1321(j); 46 U.S.C. 3703a, 3715; E.O. 11735, 3 CFR 1971-1975 Comp., p. 793. Section 156.120(bb) is also issued under 46 U.S.C. 3703.

§ 156.111 [Amended]

102. In § 156.111(a), remove the phrase “2100 Second Street, SW, Washington, DC 20593-0001” and add, in its place, the phrase “2100 2nd St. SW., Stop 7581, Washington, DC 20593-7581”.

§ 156.210 [Amended]

103. In § 156.210(b), remove the phrase “(G-M)” and add, in its place, the phrase “(CG-5)”.

PART 157—RULES FOR THE PROTECTION OF THE MARINE ENVIRONMENT RELATING TO TANK VESSELS CARRYING OIL IN BULK

104. The authority citation for part 157 continues to read as follows:

Authority: 33 U.S.C. 1903; 46 U.S.C. 3703, 3703a (note); Department of Homeland Security Delegation No. 0170.1. Subparts G, H, and I are also issued under section 4115(b), Pub. L. 101-380, 104 Stat. 520; Pub. L. 104-55, 109 Stat. 546.

105. In the table below, for each section indicated in the left column, remove the text indicated in the middle column from wherever it appears in the citation, and add, in its place, the text indicated in the right column:

Section | Remove | Add
157.02(a) | 2100 Second Street, SW., Washington, DC 20593-0001 | 2100 2nd St. SW., Stop 7126, Washington, DC 20593-7126.
157.04(b)&(d)(5) | Washington, DC 20593-0001 | 2100 2nd St. SW., Stop 7581, Washington, DC 20593-7581.
157.06(c) | Washington, DC 20593-0001 | 2100 2nd St. SW., Stop 7355, Washington, DC 20593-7355.
157.100(b) | 2100 2nd Street, SW., Jemal Building, JR10-0525, Washington, DC 20593-0001 | 2100 2nd St. SW., Stop 7102, Washington, DC 20593-7102.
157.102 introductory text | Washington, DC 20593-0001 | 2100 2nd St. SW., Stop 7581, Washington, DC 20593-7581.
157.144(a) | Washington, D.C. 20593-0001 | 2100 2nd St. SW., Stop 7581, Washington, DC 20593-7581.
157.147(a) | Washington, D.C. 20593-0001 | 2100 2nd St. SW., Stop 7581, Washington, DC 20593-7581.
157.200(b) | 2100 2nd Street, SW., Jemal Building, JR10-0525, Washington, DC 20593-0001 | 2100 2nd St. SW., Stop 7102, Washington, DC 20593-7102.
157.208 | Washington, D.C. 20593-0001 | 2100 2nd St. SW., Stop 7581, Washington, DC 20593-7581.
157.302(a) | Washington, D.C. 20593-0001 | 2100 2nd St. SW., Stop 7581, Washington, DC 20593-7581.
157.306(c) | Washington, DC 20593-0001 | 2100 2nd St. SW., Stop 7581, Washington, DC 20593-7581.

Appendix A to Part 157 [Amended]

106. In Appendix A to Part 157, in the second row of the second column of the first table, remove the text “B— or 11.5 m, whichever is 5 less.” and add, in its place, the text “B/5— or 11.5 m, whichever is less.”

PART 158—RECEPTION FACILITIES FOR OIL, NOXIOUS LIQUID SUBSTANCES, AND GARBAGE

107. The authority citation for part 158 is revised to read as follows:

Authority: 33 U.S.C. 1903(b), 1905(c); 49 CFR 1.46.

§ 158.160 [Amended]

108. In § 158.160(e) introductory text, remove the word “until” and add, in its place, the words “for a period of five years or until”.

§ 158.190 [Amended]

109. In § 158.190(c)(1), remove the phrase “Washington, DC, 20593” and add, in its place, the phrase “(CG-5), 2100 2nd St. SW., Stop 7355, Washington, DC 20593-7355”.

PART 159—MARINE SANITATION DEVICES

110. The authority citation for part 159 continues to read as follows:

Authority: 33 U.S.C. 1322(b)(1); 49 CFR 1.45(b). Subpart E also issued under authority of sec. 1(a)(4), Pub. L. 106-554, 114 Stat. 2763; Department of Homeland Security Delegation No. 0170.1.

111. In the table below, for each section indicated in the left column, remove the text indicated in the middle column from wherever it appears in the citation, and add, in its place, the text indicated in the right column:

Section | Remove | Add
159.4(a) | 2100 2nd Street, SW., Jemal Building, JR10-0525, Washington, DC 20593-0001 | 2100 2nd St. SW., Stop 7102, Washington, DC 20593-7102.
159.12(c) introductory text | 2100 2nd Street, SW., Jemal Building, JR10-0525, Washington, DC 20593-0001 | 2100 2nd St. SW., Stop 7102, Washington, DC 20593-7102.
159.15(a) introductory text and (c) | 2100 2nd Street, SW., Jemal Building, JR10-0525, Washington, DC 20593-0001 | 2100 2nd St. SW., Stop 7102, Washington, DC 20593-7102.
159.17(a) | 2100 2nd Street, SW., Jemal Building, JR10-0525, Washington, DC 20593-0001 | 2100 2nd St. SW., Stop 7102, Washington, DC 20593-7102.
159.17(c) | (G-MSE), U.S. Coast Guard, Washington, D.C. 20593-0001 | (CG-52), 2100 2nd St. SW., Stop 7126, Washington, DC 20593-7126.
159.19(a) | 2100 2nd Street, SW., Jemal Building, JR10-0525, Washington, DC 20593-0001 | 2100 2nd St. SW., Stop 7102, Washington, DC 20593-7102.

PART 160—PORTS AND WATERWAYS SAFETY—GENERAL

112. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

113. In § 160.3, revise the term for the definition for “Commanding Officer, Vessel Traffic Services” and place in appropriate alphabetical order to read as follows:

§ 160.3 Definitions.

* * * * *

Director, Vessel Traffic Services * * *

* * * * *

§ 160.5 [Amended]

114. In § 160.5(d), in the first sentence, after the text “District Commander,” remove the words “Commanding Officers” and add, in their place, the word “Directors”.

§ 160.7 [Amended]

115. In § 160.7(d), in the first sentence, remove the phrase “Washington, DC 20593” and add, in its place, the phrase “(CG-5), 2100 2nd St. SW., Stop 7355, Washington, DC 20593-7355”.

PART 164—NAVIGATION SAFETY REGULATIONS

116. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.03 [Amended]

117. In § 164.03(a), remove the phrase “2100 Second Street, SW., Washington, DC 20593-0001” and add, in its place, the phrase “2100 2nd St. SW., Stop 7355, Washington, DC 20593-7355”.

§ 164.41 [Amended]

118. In § 164.41(a)(3), remove the phrase “2100 Second Street SW., Washington, DC 20593-0001” and add, in its place, the phrase “(CG-3), 2100 2nd St. SW., Stop 7238, Washington, DC 20593-7238”.

§ 164.72 [Amended]

119. In § 164.72(a)(4)(i), remove the word “car-type” and add, in its place, the word “card-type”.

PART 165—REGULATED NAVIGATION AREAS AND LIMITED ACCESS AREAS

120. The authority citation for part 165 is revised to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

PART 167—OFFSHORE TRAFFIC SEPARATION SCHEMES

121. The authority citation for part 167 continues to read as follows:

Authority: 33 U.S.C. 1223; 49 CFR 1.46.

122. Revise § 167.151(a) to read as follows:

§ 167.151 Off New York: Precautionary areas.

(a) A circular precautionary area with a radius of 7 miles is established centered upon 40°27.50′ N, 73°49.90′ W.

* * * * *

123. Revise the heading to § 167.153 to read as follows:

§ 167.153 Off New York: Eastern approach.

* * * * *

§ 167.155 [Amended]

124. In § 167.155, remove the note after paragraph (c).

PART 169—SHIP REPORTING SYSTEMS

125. The authority citation for part 169 continues to read as follows:

Authority: 33 U.S.C. 1230(d), 1231; 46 U.S.C. 70115, Department of Homeland Security Delegation No. 0170.1.

§ 169.15 [Amended]

126. In § 169.15(a), remove the phrase “2100 Second Street, SW., Washington, DC 20593-0001” and add, in its place, the phrase “2100 2nd St. SW., Stop 7581, Washington, DC 20593-7581”.

PART 174—STATE NUMBERING AND CASUALTY REPORTING SYSTEMS

127. The authority citation for part 174 continues to read as follows:

Authority: 46 U.S.C. 6101 and 12302; Department of Homeland Security Delegation No. 0170.1 (92).

128. In the table below, for each section indicated in the left column, remove the text indicated in the middle column from wherever it appears in the section, and add, in its place, the text indicated in the right column:

Section | Remove | Add
174.7 | 2100 Second Street SW., Washington, DC 20593-0001 | 2100 2nd St. SW., Stop 7581, Washington, DC 20593-7581.
174.121 | 2100 Second Street, SW., Washington, DC 20593-0001 | 2100 2nd St. SW., Stop 7581, Washington, DC 20593-7581.
174.125 | 2100 Second Street SW., Washington, DC 20593-0001 | 2100 2nd St. SW., Stop 7581, Washington, DC 20593-7581.

PART 179—DEFECT NOTIFICATION

129. The authority citation for part 179 continues to read as follows:

Authority: 43 U.S.C. 1333; 46 U.S.C. 4302, 4307, 4310, and 4311; Pub. L. 103-206, 107 Stat. 2439; 49 CFR 1.46.

§ 179.19 [Amended]

130. In § 179.19, in paragraph (a), remove the phrase “Commandant Commandant (CG-54223), U.S. Coast Guard, 2100 Second Street, SW., Washington, DC 20593-0001” and add, in its place, the phrase “Commandant (CG-54223), 2100 2nd St., SW., Stop 7581, Washington, DC 20593-7581”; and in paragraph (b), remove the phrase “(G-MSE-4), U.S. Coast Guard, 2100 Second St., SW., Washington, DC 20593-0001” and add, in its place, the phrase “(CG-5214), 2100 2nd St., SW., Stop 7126, Washington, DC 20593-7126”.

PART 181—MANUFACTURER REQUIREMENTS

131. The authority citation for part 181 continues to read as follows:

Authority: 46 U.S.C. 4302.

132. In the table below, for each section indicated in the left column, remove the text indicated in the middle column from wherever it appears in the citation, and add, in its place, the text indicated in the right column:

Section | Remove | Add
181.4(a) | (G-MSE-4), 2100 Second Street, SW., Washington, DC 20593-0001 | (CG-5214), 2100 2nd St., SW., Stop 7126, Washington, DC 20593-7126.
181.31(a)&(b) | 2100 Second Street, SW., Washington, DC 20593-0001 | 2100 2nd St., SW., Stop 7581, Washington, DC 20593-7581.
181.33(b) | 2100 Second Street, SW., Washington, DC 20593-0001 | 2100 2nd St., SW., Stop 7581, Washington, DC 20593-7581.

PART 183—BOATS AND ASSOCIATED EQUIPMENT

133. The authority citation for part 183 continues to read as follows:

Authority: 46 U.S.C. 4302; Pub. L 103-206, 107 Stat. 2439; 49 CFR 1.46.

§ 183.5 [Amended]

134. In § 183.5(a), remove the phrase “Washington, DC 20593-0001” and add, in its place, the phrase “2100 2nd St., SW., Stop 7581, Washington, DC 20593-7581”.

§ 183.607 [Amended]

135. In § 183.607(a) introductory text, remove the phrase “2100 Second Street, SW., Washington, DC 20593-0001” and add, in its place, the phrase “2100 2nd St., SW., Stop 7000, Washington, DC 20593-7000”.

Dated: June 9, 2010.
Steve Venckus,
Chief, Office of Regulations and Administrative Law, United States Coast Guard.

[FR Doc. 2010-14620 Filed 6-24-10; 8:45 am]

BILLING CODE 9110-04-P